ENVIRONMENTAL PROTECTION AGENCY

[ER-FRL-6664-5]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167. An explanation of the ratings assigned to draft environmental impact statements (EISs) was published in the Federal Register dated April 1, 2005 (70 FR 16815).

Draft EISs

EIS No. 20050142, ERP No. D-NOA-K39092-CA, Programmatic—Montrose Settlements Restoration Program (MSRP) Draft Restoration Plan, To Restore Injured Natural Resources, Channel Islands, Southern California Bight including Baja California Pacific Islands, Orange County, CA

Summary: EPA expressed concerns about direct and indirect impacts, the feasibility of the artificial reef projects, and their inclusion in the alternatives, and requested additional information regarding the selection of evaluation criteria, cumulative impacts to injured resources, and impacts to endangered species. Rating EC2.

EIS No. 20050143, ERP No. D-FHW-G40184-00, I-69 Corridor—Section of Independent Utility (SIU) No. 14, Construction from Junction 1-20 near Haughton, LA to U.S. 82 near EL Dorado, AR, Bossier, Claiborne and Webster Parishes, LA and Columbia and Union Counties, AR.

Summary: EPA has no objections to the project as proposed. Rating LO.

EIS No. 20050158, ERP No. D-AFS-L65482-ID, Aspen Range Timber Sale and Vegetation Treatment Project, Proposal to Treat Forested and Nonforested Vegetation, Caribou-Targhee National Forest, Soda Springs Ranger District, Caribou County, ID.

Summary: EPA expressed environmental concerns about potential adverse impacts to surface water quality and habitat from sediment produced from roads, and silviculture activities, and recommends conducting timber harvest during winter months and applying BMPs immediately after harvest. Rating EC2.

Final EISs

EIS No. 20050125, ERP No. F-NPS-E61074-00, Big South Fork National River and Recreation Area, General Management Plan, Implementation, Resources, Roads and Trails, McCreary, Ky and Fentress, Morgan, Pickett and Scott Counties, TN.

Summary: EPA has no objections to the project as proposed.

EIS No. 20050171, ERP No. F-AFS-K65256-NV, Jarbidge Canyon Project, Road Management Plan, Implementation, Water Projects Construction along Charleston-Jarbidge Road and South Canyon Road Reconstruction, Humbolt-Toiyabe National Forest, Jarbidge Ranger District, Elko County, NV.

Summary: The Final EIS was responsive to the primary objections raised on the Draft EIS on CWA Section 404-issues and water quality mitigation. EPA continues to have concerns about the Selected Alternative due to its presence within the flood plain and low-water crossings. EPA recommended additional water quality mitigation measures and strong enforcement of both seasonal use and the forest closure order.

EIS No. 20050172, ERP No. F-NRC-G06013-AR, Generic—License Renewal of Nuclear Plants, Arkansas Nuclear One, Unit 2 (Tac. Nos. MB 8405) Supplement 19 to NUREG-1437, Operating License Renewal, Pope County, AR.

Summary: No formal comment letter was sent to the preparing agency.

EIS No. 20050183, ERP No. F-NOA-K91013-HI, Seabird Interaction Mitigation Methods, To Reduce Interaction with Seabird in Hawaii-Based Longline Fishery and Pelagic Squid Fishery Management, to Establish an Effective Management Framework for Pelagic Squid Fisheries, Fishery Management Plan, Pelagic Fisheries of the Western Pacific Region, Exclusive Economic Zone of the U.S. and High Sea, HI.

Summary: EPA's concerns have been addressed with the creation of a new seabird action preferred alternative in the FEIS; therefore, EPA has no objections to the proposed action.

EIS No. 20050184, ERP No. F-NOA-L91021-AK, Essential Fish Habitat Identification and Conservation, Implementation, North Pacific Fishery Management Council, Magnuson-Stevens Fishery Conservation and Management Act, AK.

Summary: EPA continues to express concerns about rescinding HAPC status without appropriate evaluation.

Dated: June 14, 2005.
Robert W. Hargrove,
Director, NEPA Compliance Division, Office of Federal Activities.

[FR Doc. 05-12013 Filed 6-16-05; 8:45 am]

BILLING CODE 6560-50-P